DEPARTMENT OF AGRICULTURE

Animal and Plant Health Inspection Service

[Docket No. 03-100-2]

Public Meeting; Veterinary Biologics

AGENCY: Animal and Plant Health Inspection Service, USDA.

ACTION: Notice of public meeting.

SUMMARY: This is the second notice to producers and users of veterinary biological products, and other interested individuals, that we will be holding our 12th public meeting to discuss regulatory and policy issues related to the manufacture, distribution, and use of veterinary biological products. This notice provides information on the agenda, as well as the dates, times, and place of the meeting. It also indicates a contact person for obtaining registration forms, lodging information, and copies of the agenda.

DATES: The public meeting will be held Wednesday, April 7, through Friday, April 9, 2004, from 1 p.m. to approximately 5 p.m. on Wednesday, 8 a.m. to approximately 5 p.m. on Thursday, and from 8 a.m. to approximately noon on Friday.

ADDRESSES: The public meeting will be held in the Scheman Building at the Iowa State Center, Iowa State University, Ames, IA.

FOR FURTHER INFORMATION CONTACT: Ms. Kathy Clark, Center for Veterinary Biologics, VS, APHIS, 510 South 17th Street, Suite 104, Ames, IA 50010-8197; phone (515) 232-5785, fax (515) 232-7120; or e-mail Kathryn.K.Clark@aphis.usda.gov.

SUPPLEMENTARY INFORMATION: In a notice published in the Federal Register on November 14, 2003 (68 FR 64585, Docket No. 03-100-1), we announced that we would be holding our 12th annual veterinary biologics public meeting and requested that interested persons submit suggestions for agenda topics. Based on the responses and on other considerations, the agenda for the 12th public meeting will include, but is not limited to, the following:

• Biologics use and role in emergency management;

• Bovine spongiform encephalopathy (BSE) experience, epidemiology aspects, and impact on veterinary biologics;

• Animal health safeguarding;

• Autogenous biologics;

• Possession, use, and transfer of biological agents and toxins, 9 CFR part 121, implementation and impact;

• Research and development of biologics;

• Vaccine storage bank and vaccine discontinuance update;

• Center for Veterinary Biologics (CVB) regulatory initiatives;

• Harmonization issues; and

• Animal care.

In addition, we will provide updates on regulations, quality assurance, the Ames Information Management System, document processing (outlines, labels), CVB shipment of select agents and reagents, the Agricultural Bioterrorism Protection Act of 2002, export certificates, the APHIS Science Fellows Project, and the National Centers for Animal Health.

Registration forms, lodging information, and copies of the agenda for the 12th public meeting may be obtained from the person listed under FOR FURTHER INFORMATION CONTACT. This information is also available on the Internet at http://www.aphis.usda.gov/vs/cvb.

The registration deadline is March 27, 2004. A block of hotel rooms has been set aside for this meeting until March 24, 2004. Early reservation of rooms is strongly encouraged.

Done in Washington, DC, this 25th day of February 2004.
Kevin Shea,
Acting Administrator, Animal and Plant Health Inspection Service.

[FR Doc. 04-4588 Filed 3-1-04; 8:45 am]

BILLING CODE 3410-34-P